DEPARTMENT OF TRANSPORTATION

Federal Highway Administration

Notice of Final Federal Agency Actions on the Interstate 395 High Occupancy (HOV) Vehicle Ramp at Seminary Road Project in Virginia

AGENCY: Federal Highway Administration (FHWA), DOT.

ACTION: Notice of Limitation on Claims for Judicial Review of Actions by FHWA.

SUMMARY: This notice announces actions taken by the FHWA that are final within the meaning of 23 U.S.C. 139(l)(1). The actions relate to the Interstate 395 High Occupancy Vehicle (HOV) Ramp at Seminary Road project in the City of Alexandria, Virginia. Those actions grant licenses, permits, and approvals for the project.

DATES: By this notice, the FHWA is advising the public of final agency actions subject to 23 U.S.C. 139(l)(1). A claim seeking judicial review of the Federal agency actions on the project will be barred unless the claim is filed on or before January 2, 2013. Notwithstanding any other provision of law, a claim arising under Federal law seeking judicial review of a permit, license, or approval issued by a Federal agency for a highway or public transportation capital project shall be barred unless it is filed within 180 days after publication of a notice in the Federal Register announcing that the permit, license, or approval is final pursuant to the law under which the agency action is taken, unless a shorter time is specified in the Federal law pursuant to which judicial review is allowed.

FOR FURTHER INFORMATION CONTACT: Mr. John Simkins, Planning and Environment Team Leader, Federal Highway Administration, 400 North 8th Street, Richmond, Virginia 23219; telephone: (804) 775-3342; email: John.Simkins@dot.gov. The FHWA Virginia Division Office's normal business hours are 7 a.m. to 5 p.m. (Eastern Time). For the Virginia Department of Transportation: Mr. Robert Iosco, Environmental Program Manager, 4975 Alliance Drive, Fairfax, Virginia 22030; telephone: (703) 259-2764; email: Robert.Iosco@VDOT.Virginia.gov. The Virginia Department of Transportation's normal business hours are 8 a.m. to 5 p.m. (Eastern Time).

SUPPLEMENTARY INFORMATION: Notice is hereby given that FHWA has taken final agency actions subject to 23 U.S.C. 139(l)(1) by issuing licenses, permits, and approvals for the following project in the State of Virginia: Interstate 395 High Occupancy Vehicle (HOV) Ramp at Seminary Road. The project would involve construction of a ramp between the Interstate 395 HOV lanes and Seminary Road. The actions taken by FHWA, and the laws under which such actions were taken, are described in the Environmental Assessment, the May 10, 2012 letter revising the Environmental Assessment and requesting a Finding of No Significant Impact (FONSI), the FONSI that was issued on June 12, 2012, and in other documents in the FHWA project records. The Environmental Assessment, the letter revising the Environmental Assessment and requesting a FONSI, and the FONSI can be viewed on the project's Internet site at http://www.vamegaprojects.com/about-megaprojects/mark-center-taskforce/. These documents and other project records are also available by contacting FHWA or the Virginia Department of Transportation at the phone numbers and addresses provided above.

This notice applies to all Federal agency decisions as of the issuance date of this notice and all laws under which such actions were taken, including but not limited to:

1. General: National Environmental Policy Act (NEPA) [42 U.S.C. 4321-4351]; Federal-Aid Highway Act (FAHA) [23 U.S.C. 109 and 23 U.S.C. 128].

2. Air: Clean Air Act [42 U.S.C. 7401-7671(q)].

3. Land: Section 4(f) of the Department of Transportation Act of 1966 [49 U.S.C. 303].

4. Wildlife: Endangered Species Act [16 U.S.C. 1531-1544 and Section 1536].

5. Historic and Cultural Resources: Section 106 of the National Historic Preservation Act of 1966, as amended [16 U.S.C. 470(f) et seq.].

6. Social and Economic: Farmland Protection Policy Act [7 U.S.C. 4201-4209].

(Catalog of Federal Domestic Assistance Program Number 20.205, Highway Planning and Construction. The regulations implementing Executive Order 12372 regarding intergovernmental consultation on Federal programs and activities apply to this program.)

Authority: 23 U.S.C 139(l)(1).

Issued on: June 28, 2012.
John Simkins,
Planning and Environment Team Leader.

[FR Doc. 2012-16474 Filed 7-3-12; 8:45 am]

BILLING CODE 4910-RY-P